DEPARTMENT OF THE TREASURY

Submission for OMB Review; Comment Request

September 19, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 26, 2000 to be assured of consideration.

Internal Revenue Service (IRS)

OMB Number: 1545-0140.

Form Number: IRS Forms 2210 and 2210-F.

Type of Review: Extension.

Title: Underpayment of Estimated Tax by Individuals, Estates, and Trusts (2210); and Underpayment of Estimated Tax by Farmers and Fishermen (2210-F).

Description: Internal Revenue Code section 6654 imposes a penalty for failure to pay estimated tax. These forms are used by taxpayers to determine whether they are subject to the penalty and to compute the penalty if it applies. The Service uses this information to determine whether the taxpayer is subject to the penalty, and to verify the penalty amount.

Respondents: Individuals or households, Business or other for-profit, Farms.

Estimated Number of Respondents/Recordkeepers: 900,000.

Estimated Burden Hours Per Respondent/Recordkeeper:

| Short method (in mins) | Regular method
Recordkeeping | 19 | 13 min.
Learning about the law or the form | 15 | 31 min.
Preparing the form | 37 | 2 hr., 0 min.
Copying, assembling, and sending the form to the IRS

Frequency of Response: Annually.

Estimated Total Reporting/Recordkeeping Burden: 2,481,500 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 00-24682 Filed 9-25-00; 8:45 am]

BILLING CODE 4830-01-U